DEPARTMENT OF ENERGY

Chicago Operations Office, Office of Industrial Technologies (OIT); Amendment to the Notice of the Glass Industry of the Future Solicitation

AGENCY: Chicago Operations Office, DOE.

ACTION: Amendment to Notice of Solicitation Availability.

SUMMARY: The Notice of Solicitation Availability issued by the Chicago Operations Office, DOE, that appeared in the Federal Register, Volume 65, No. 21, on Tuesday, February 1, 2000 is amended to eliminate the requirement for teaming arrangements as a qualification criterion.

DATES: The complete solicitation document was made available on April 11, 2000 on the Internet by accessing the DOE Chicago Operations Office Acquisition and Assistance Group Home Page at http://www.ch.doe.gov/business/ACQ.htm under the heading “Current Solicitations”, Solicitation No. DE-SC02-00CH11037. Applications are due on June 12, 2000. Awards are anticipated by February 1, 2001 pending availability of funding.

ADDRESSES: Completed applications must be submitted to: U.S. Department of Energy, Chicago Operations Office, Attn: David E. Ramirez, Bldg. 201, Communications Center, Room 168, 9800 South Cass Avenue, Argonne, IL 60439-4899.

FOR FURTHER INFORMATION CONTACT: David Ramirez at (630) 252-2133; by mail at U.S. Department of Energy, 9800 South Cass Avenue, Argonne, IL 60439-4899; by facsimile at (630) 252-5045; or by electronic mail at david.ramirez@ch.doe.gov.

SUPPLEMENTARY INFORMATION: The Notice of Solicitation Availability issued by the Chicago Operations Office, DOE, that appeared in the Federal Register, Volume 65, No. 21, on Tuesday, February 1, 2000 required, in part, that applicants propose a teaming arrangement of at least two glass industry companies. That requirement was eliminated as a qualification criterion from the solicitation which was issued on April 11, 2000. However, teaming arrangements are still desired and will be evaluated in accordance with the evaluation criterion identified in the solicitation.

Issuance: Issued in Argonne, Illinois on April 18, 2000.
John D. Greenwood,
Manager, Acquisition and Assistance Group.

[FR Doc. 00-10896 Filed 5-1-00; 8:45 am]

BILLING CODE 6450-01-P